NATIONAL SCIENCE FOUNDATION

Sunshine Act Meeting

AGENCY HOLDING MEETING: National Science Foundation, National Science Board, Executive Committee.

DATE AND TIME: November 22, 2000, 10 a.m.-10:15 a.m. Open Session; November 22, 2000, 10:15 a.m.-11 a.m. Closed Session.

PLACE: The National Science Foundation, 4201 Wilson Boulevard, Room 1205, Arlington, VA 22230.

STATUS: Part of this meeting will be open to the public. Part of this meeting will be closed to the public.

MATTERS TO BE CONSIDERED:

Wednesday, November 22, 2000

OPEN SESSION (10 a.m. to 10:15 a.m.)

—Approval of NSB Interim Report on International S&E

—Approval of Management Response to NSF/OIG Semiannual Report

CLOSED SESSION (10:15 a.m. to 11 a.m.)

—NSF Budget

Marta Cehelsky,
Executive Officer.

[FR Doc. 00-29715 Filed 11-15-00; 4:59 pm]

BILLING CODE 7555-01-M